DEPARTMENT OF THE INTERIOR

Bureau of Reclamation

Renewal of Sacramento River Settlement Contracts, Central Valley Project, CA

AGENCY: Bureau of Reclamation, Interior.

ACTION: Notice of intent to prepare an environmental document (environmental assessment or environmental impact statement) and notice of public meetings.

SUMMARY: Pursuant to section 102(2)(C) of the National Environmental Policy Act of 1969 (NEPA), the Bureau of Reclamation (Reclamation) proposes to prepare an environmental document to evaluate alternatives for renewal of long-term contracts with the entities and individuals asserting rights to divert water from the natural flow of the Sacramento River. These entities and individuals, known as the Sacramento River settlement contractors, typically receive both non-Central Valley Project water, referred to as base supply, and supplemental water from the Central Valley Project, referred to as Project water. The current contracts expire in 2004, and the proposed renewals would extend for at least 25 years.

At present it is not clear whether the scope of the action and anticipated project impacts will require preparation of an environmental impact statement (EIS) instead of an environmental assessment (EA). However, to ensure the timely and appropriate level of NEPA compliance and to limit potential future delays to the project schedule, Reclamation is proceeding as if the project impacts would require preparation of an EA. Reclamation will re-evaluate the need for an EIS after obtaining written and oral comments on the project scope, alternatives and environmental impacts, and after Reclamation's evaluation of potential impacts of the proposed project. Reclamation will publish a notice of change if a decision is made to prepare an EIS rather than an EA. However, the scoping process to be conducted will suffice for either course of action.

There are no known Indian Trust Asset or environmental justice issues associated with the proposed action.

DATES: Three scoping meetings will be held to solicit comments from interested parties to assist in determining the scope of the environmental analysis and to identify the significant issues related to this proposed action. The meeting dates are:

• Monday, August 6, 2001, 1 to 4 p.m., Tracy, California

• Tuesday, August 7, 2001, 1 to 4 p.m., Concord, California

• Wednesday, August 8, 2001, 1 to 4 p.m., Red Bluff, California

Written comments on the scope of the environmental document should be mailed to Reclamation at the address below by August 27, 2001.

ADDRESSES: The meeting locations are as follows:

• Tracy at Veterans of Foreign Wars, 430 West Grant Line Road

• Concord at Hilton Hotel, 1970 Diamond Boulevard

• Red Bluff at Red Bluff Community/Senior Center, 1500 South Jackson Street

Written comments on the scope of the environmental document should be sent to Buford Holt, Environmental Specialist, Bureau of Reclamation, Northern California Area Office, 16349 Shasta Dam Boulevard, Shasta Lake, CA 96019.

FOR FURTHER INFORMATION CONTACT: Buford Holt at the above address, by telephone at (530) 275-1554, or e-mail at bholt@mp.usbr.gov.

SUPPLEMENTARY INFORMATION: The Central Valley Project (CVP) was first authorized as a Federal project in 1935 and includes facilities on the Trinity River, Sacramento River, American River, Sacramento-San Joaquin Delta, San Joaquin River, Stanislaus River and offstream storage and conveyance facilities associated with the San Luis Reservoir and Delta Mendota Canal. Construction of dams on the Sacramento River and the Trinity River substantially modified the flows of the Sacramento River. Prior to construction of the CVP, individuals and entities along the Sacramento River were diverting water for irrigation and municipal and industrial uses under various claims of right. In order to settle the controversy over assertions of water rights, the United States, acting through the Bureau of Reclamation, negotiated contracts that provided for agreement on diversion of water and CVP water service. The term of these Sacramento River settlement contracts was not to exceed 40 years and the contracts expire on March 31, 2004. The settlement contracts provide for renewal which must be accomplished prior to March 31, 2004.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Special Services

Persons requiring any special services should contact Sammie Cervantes at (916) 978-5104. Please notify Ms. Cervantes as far in advance of the particular meeting as possible, but no later than 3 working days prior to the meeting to enable Reclamation to secure the services. If a request cannot be honored, the requester will be notified.

Dated: June 29, 2001.
Laura Allen,
Deputy Regional Environmental Officer.

[FR Doc. 01-18043 Filed 7-18-01; 8:45 am]

BILLING CODE 4310-MN-P